DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations, and Variances on or before April 9, 2012.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations, and Variances, 1100 Wilson Boulevard, Room 2350, Arlington, Virginia 22209-3939, Attention: Roslyn B. Fontaine, Acting Director, Office of Standards, Regulations, and Variances.

4. Hand-Delivery or Courier: MSHA, Office of Standards, Regulations, and Variances, 1100 Wilson Boulevard, Room 2350, Arlington, Virginia 22209-3939. Individuals who submit comments by hand-delivery are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary of Labor determines that:

(1) An alternative method of achieving the result of such standard exists which will at all times guarantee no less than the same measure of protection afforded the miners of such mine by such standard; or

(2) That the application of such standard to such mine will result in a diminution of safety to the miners in such mine.

In addition, the regulations at 30 CFR 44.10 and 44.11 establish the requirements and procedures for filing petitions for modification.

II. Petitions for Modification

Docket Number: M-2012-001-M.

Petitioner: Montana Resources, LLP, 1801 California Street, Suite 4900, Denver, Colorado 80202.

Mine: Continental Mine, MSHA I.D. No. 24-00338, 600 Shields Avenue, Butte, Montana 59701-2705, located in Silver Bow County, Montana.

Regulation Affected: 30 CFR 56.12028 (Testing grounding systems).

Modification Request: The petitioner requests a modification of the existing standard to permit the use of visual examinations of its grounding conductors in accordance with the language of the Program Policy Manual (PPM), (Volume IV, Metal and Nonmetal Mines, Interpretation, Application, and Guidelines on Enforcement of 30 CFR) 30 CFR 56/57.12028, Testing Grounding Systems.

The petitioner asserts that application of the existing standard will result in a diminution of safety to the miners and that the proposed alternative method will at all times guarantee no less than the same measure of protection afforded the miner by the standard.

Docket Number: M-2012-008-C.

Petitioner: Arch Coal, Hazard, 1021 Tori Drive, Hazard, Kentucky 41701.

Mines: East Mac & Nellie Mine, MSHA I.D. No. 15-18966, Rowdy Gap Mine, MSHA I.D. No. 15-18048, and Kentucky River Loading, MSHA I.D. No. 15-13495, located in Perry County, Kentucky; Thunder Ridge Mine, MSHA I.D. No. 15-17746, located in Leslie County, Kentucky; Bearville Mine, MSHA I.D. No. 15-19416, located in Knott County, Kentucky.

Regulation Affected: 30 CFR 77.1607(u) (Loading and hauling equipment; operation).

Modification Request: The petitioner requests a modification of the existing standard to permit the use of an AmSteel-Blue Rope or Belly Pan Nylon Strap in lieu of a tow bar for pulling a stuck or disabled truck for short distances. The petitioner states that:

(1) The ropes or strap will have a strength rate greater than the weight of the truck to be pulled.

(2) The ropes or straps do not store energy and, therefore, do not pose a risk of recoil.

(3) Tow bars pose an unnecessary risk to the miner's safety based on the sheer size and weight.

The petitioner asserts that the proposed alternative method will provide a level of safety equal to that provided by the existing standard.

Docket Numbers: M-2012-009-C, M-2012-012-C, and M-2012-015-C.

Petitioner: Eastern Associated Coal, LLC, Three Gateway Center, Suite 1340, 401 Liberty Avenue, Pittsburgh, Pennsylvania 15222-1000.

Mines: Federal No. 2 Mine, MSHA I.D. No. 46-01456, Docket No. M-2012-009-C, 1044 Miracle Run Road, Fairview, West Virginia 26570, located in Monongalia County, West Virginia; Wharton No. 1 Mine, MSHA I.D. No. 46-05071, Docket No. M-2012-012-C and Black Oak Mine, MSHA I.D. No. 46-09152, Docket No. M-2012-015-C, 54912 Pond Fork Road, Wharton, West Virginia 25208, located in Boone County, West Virginia.

Regulation Affected: 30 CFR 75.500(d) (Permissible electric equipment).

Modification Request: The petitioner requests a modification of the existing standard to permit an alternative method of compliance to permit the use of battery-powered non-permissible surveying equipment in or inby the last open crosscut, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in or inby the last open crosscut.

(e) Non-permissible surveying equipment will not be used if methane is detected in concentrations at or above one percent for the area being surveyed. When methane is detected at such levels while the non-permissible surveying equipment is being used, the equipment will be deenergized immediately and the non-permissible electronic equipment withdrawn outby the last open crosscut.

(f) All hand-held methane detectors will be MSHA-approved and maintained in permissible and proper operating condition as defined in 30 CFR 75.320.

(g) Batteries contained in the surveying equipment must be changed out or charged in fresh air outby the last open crosscut.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Numbers: M-2012-010-C, M-2012-013, and M-2012-016-C.

Petitioner: Eastern Associated Coal, LLC, Three Gateway Center, Suite 1340, 401 Liberty Avenue, Pittsburgh, Pennsylvania 15222-1000.

Mines: Federal No. 2 Mine, MSHA I.D. No. 46-01456, Docket No. M-2012-010-C, 1044 Miracle Run Road, Fairview, West Virginia 26570, located in Monongalia County, West Virginia; Wharton No. 1 Mine, MSHA I.D. No. 46-05071, Docket No. M-2012-013-C and Black Oak Mine, MSHA I.D. No. 46-09152, Docket No. M-2012-016-C, 54912 Pond Fork Road, Wharton, West Virginia 25208, located in Boone County, West Virginia.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in return airways.

(e) Non-permissible surveying equipment will not be used if methane is detected in concentrations at or above one percent for the area being surveyed. When methane is detected at such levels while the non-permissible surveying equipment is being used, the equipment will be deenergized immediately and the non-permissible electronic equipment withdrawn out of the return airways.

(f) All hand-held methane detectors will be MSHA-approved and maintained in permissible and proper operating condition as defined in 30 CFR 75.320.

(g) Batteries contained in the surveying equipment must be changed out or charged in fresh air out of the return.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Numbers: M-2012-011-C, M-2012-014-C, and M-2012-017-C.

Petitioner: Eastern Associated Coal, LLC, Three Gateway Center, Suite 1340, 401 Liberty Avenue, Pittsburgh, Pennsylvania 15222-1000.

Mines: Federal No. 2 Mine, MSHA I.D. No. 46-01456, Docket No. M-2012-011-C, 1044 Miracle Run Road, Fairview, West Virginia 26570, located in Monongalia County, West Virginia; Wharton No. 1 Mine, MSHA I.D. No. 46-05071, Docket No. M-2012-014-C and Black Oak Mine, MSHA I.D. No. 46-09152, Docket No. M-2012-017-C, 54912 Pond Fork Road, Wharton, West Virginia 25208, located in Boone County, West Virginia.

Regulation Affected: 30 CFR 75.1002(a) (Installation of electric equipment and conductors; permissibility).

Modification Request: The petitioner requests a modification of the existing standard to permit an alternative method of compliance to permit the use of battery-powered non-permissible surveying equipment within 150 feet of pillar workings, including, but not limited to, portable battery operated mine transits, total station surveying equipment, distance meters, and data loggers. The petitioner states that:

(1) In order to comply with requirements of 30 CFR 75.372, 75.1002(a), and 75.1200, use of the most practical and accurate surveying equipment is necessary. In order to ensure the safety of the miners in active mines and to protect miners in future mines which may mine in close proximity to these same active mines it is necessary to determine the exact location and extents of the mine workings.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used within 150 feet of pillar workings will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment within 150 feet of pillar workings.

(e) Non-permissible surveying equipment will not be used if methane is detected in concentrations at or above one percent for the area being surveyed. When methane is detected at such levels while the non-permissible surveying equipment is being used, the equipment will be deenergized immediately and the non-permissible electronic equipment withdrawn further than 150 feet from pillar workings.

(f) All hand-held methane detectors will be MSHA-approved and maintained in permissible and proper operating condition as defined in 30 CFR 75.320.

(g) Batteries contained in the surveying equipment must be changed out or charged in fresh air more than 150 feet from pillar workings.

(h) Qualified personnel engaged in the use of surveying equipment will be properly trained to recognize the hazards and limitations associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Numbers: M-2012-018-C and M-2012-021-C.

Petitioner: Gateway Eagle Coal Company, LLC, Three Gateway Center, Suite 1340, 401 Liberty Avenue, Pittsburgh, Pennsylvania 15222-1000.

Mines: Gateway Eagle Mine, MSHA I.D. No. 46-09152, Docket No. M-2012-018-C and Sugar Maple Mine, MSHA I.D. No. 46-09073, Docket No. M-2012-021-C, 54912 Pond Fork Road, Wharton, West Virginia, located in Boone County, West Virginia.

Regulation Affected: 30 CFR 75.500(d) (Permissible electric equipment).

Modification Request: The petitioner requests a modification of the existing standard to permit an alternative method of compliance to permit the use of battery-powered non-permissible surveying equipment in or inby the last open crosscut, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in or inby the last open crosscut.

(e) Non-permissible surveying equipment will not be used if methane is detected in concentrations at or above one percent for the area being surveyed. When methane is detected at such levels while the non-permissible surveying equipment is being used, the equipment will be deenergized immediately and the non-permissible electronic equipment withdrawn outby the last open crosscut.

(f) All hand-held methane detectors will be MSHA-approved and maintained in permissible and proper operating condition as defined in 30 CFR 75.320.

(g) Batteries contained in the surveying equipment must be changed out or charged in fresh air outby the last open crosscut.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Numbers: M-2012-019-C and M-2012-022-C.

Petitioner: Gateway Eagle Coal Company, LLC, Three Gateway Center, Suite 1340, 401 Liberty Avenue, Pittsburgh, Pennsylvania 15222-1000.

Mines: Gateway Eagle Mine, MSHA I.D. No. 46-09152, Docket No. M-2012-019-C and Sugar Maple Mine, MSHA I.D. No. 46-09073, Docket No. M-2012-022-C, 54912 Pond Fork Road, Wharton, West Virginia, located in Boone County, West Virginia.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in return airways.

(e) Non-permissible surveying equipment will not be used if methane is detected in concentrations at or above one percent for the area being surveyed. When methane is detected at such levels while the non-permissible surveying equipment is being used, the equipment will be deenergized immediately and the non-permissible electronic equipment withdrawn out of the return airways.

(f) All hand-held methane detectors will be MSHA-approved and maintained in permissible and proper operating condition as defined in 30 CFR 75.320.

(g) Batteries contained in the surveying equipment must be changed out or charged in fresh air out of the return.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Numbers: M-2012-020-C and M-2012-023-C.

Petitioner: Gateway Eagle Coal Company, LLC, Three Gateway Center, Suite 1340, 401 Liberty Avenue, Pittsburgh, Pennsylvania 15222-1000.

Mines: Gateway Eagle Mine, MSHA I.D. No. 46-09152, Docket No. M-2012-020-C and Sugar Maple Mine, MSHA I.D. No. 46-09073, Docket No. M-2012-023-C, 54912 Pond Fork Road, Wharton, West Virginia, located in Boone County, West Virginia.

Regulation Affected: 30 CFR 75.1002(a) (Installation of electric equipment and conductors; permissibility).

Modification Request: The petitioner requests a modification of the existing standard to permit an alternative method of compliance to permit the use of battery-powered non-permissible surveying equipment within 150 feet of pillar workings, including, but not limited to, portable battery operated mine transits, total station surveying equipment, distance meters, and data loggers. The petitioner states that:

(1) In order to comply with requirements of 30 CFR 75.372, 75.1002(a), and 75.1200, use of the most practical and accurate surveying equipment is necessary. In order to ensure the safety of the miners in active mines and to protect miners in future mines which may mine in close proximity to these same active mines it is necessary to determine the exact location and extents of the mine workings.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used within 150 feet of pillar workings will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment within 150 feet of pillar workings.

(e) Non-permissible surveying equipment will not be used if methane is detected in concentrations at or above one percent for the area being surveyed. When methane is detected at such levels while the non-permissible surveying equipment is being used, the equipment will be deenergized immediately and the non-permissible electronic equipment withdrawn further than 150 feet from pillar workings.

(f) All hand-held methane detectors will be MSHA-approved and maintained in permissible and proper operating condition as defined in 30 CFR 75.320.

(g) Batteries contained in the surveying equipment must be changed out or charged in fresh air more than 150 feet from pillar workings.

(h) Qualified personnel engaged in the use of surveying equipment will be properly trained to recognize the hazards and limitations associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-024-C.

Petitioner: Pine Ridge Coal Company, LLC, Three Gateway Center, Suite 1340, 401 Liberty Avenue, Pittsburgh, Pennsylvania 15222-1000.

Mine: Big Mountain No. 16 Mine, MSHA I.D. No. 46-07908, 308 School House Road, Seth, West Virginia 25181, located in Boone County, West Virginia.

Regulation Affected: 30 CFR 75.500(d) (Permissible electric equipment).

Modification Request: The petitioner requests a modification of the existing standard to permit an alternative method of compliance to permit the use of battery-powered non-permissible surveying equipment in or inby the last open crosscut, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in or inby the last open crosscut.

(e) Non-permissible surveying equipment will not be used if methane is detected in concentrations at or above one percent for the area being surveyed. When methane is detected at such levels while the non-permissible surveying equipment is being used, the equipment will be deenergized immediately and the non-permissible electronic equipment withdrawn outby the last open crosscut.

(f) All hand-held methane detectors will be MSHA-approved and maintained in permissible and proper operating condition as defined in 30 CFR 75.320.

(g) Batteries contained in the surveying equipment must be changed out or charged in fresh air outby the last open crosscut.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-025-C.

Petitioner: Pine Ridge Coal Company, LLC, Three Gateway Center, Suite 1340, 401 Liberty Avenue, Pittsburgh, Pennsylvania 15222-1000.

Mine: Big Mountain No. 16 Mine, MSHA I.D. No. 46-07908, 308 School House Road, Seth, West Virginia 25181, located in Boone County, West Virginia.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in return airways.

(e) Non-permissible surveying equipment will not be used if methane is detected in concentrations at or above one percent for the area being surveyed. When methane is detected at such levels while the non-permissible surveying equipment is being used, the equipment will be deenergized immediately and the non-permissible electronic equipment withdrawn out of the return airways.

(f) All hand-held methane detectors will be MSHA-approved and maintained in permissible and proper operating condition as defined in 30 CFR 75.320.

(g) Batteries contained in the surveying equipment must be changed out or charged in fresh air out of the return.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-026-C.

Petitioner: Pine Ridge Coal Company, LLC, Three Gateway Center, Suite 1340, 401 Liberty Avenue, Pittsburgh, Pennsylvania 15222-1000.

Mine: Big Mountain No. 16 Mine, MSHA I.D. No. 46-07908, 308 School House Road, Seth, West Virginia 25181, located in Boone County, West Virginia.

Regulation Affected: 30 CFR 75.1002(a) (Installation of electric equipment and conductors; permissibility).

Modification Request: The petitioner requests a modification of the existing standard to permit an alternative method of compliance to permit the use of battery-powered non-permissible surveying equipment within 150 feet of pillar workings, including, but not limited to, portable battery operated mine transits, total station surveying equipment, distance meters, and data loggers. The petitioner states that:

(1) In order to comply with requirements of 30 CFR 75.372, 75.1002(a), and 75.1200, use of the most practical and accurate surveying equipment is necessary. In order to ensure the safety of the miners in active mines and to protect miners in future mines which may mine in close proximity to these same active mines it is necessary to determine the exact location and extents of the mine workings.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used within 150 feet of pillar workings will be examined by surveying personnel prior to use to ensure the equipment is being maintained in a safe operating condition. These examinations will include the following steps:

(i) Checking the instrument for any physical damage and the integrity of case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment within 150 feet of pillar workings.

(e) Non-permissible surveying equipment will not be used if methane is detected in concentrations at or above one percent for the area being surveyed. When methane is detected at such levels while the non-permissible surveying equipment is being used, the equipment will be deenergized immediately and the non-permissible electronic equipment withdrawn further than 150 feet from pillar workings.

(f) All hand-held methane detectors will be MSHA-approved and maintained in permissible and proper operating condition as defined in 30 CFR 75.320.

(g) Batteries contained in the surveying equipment must be changed out or charged in fresh air more than 150 feet from pillar workings.

(h) Qualified personnel engaged in the use of surveying equipment will be properly trained to recognize the hazards and limitations associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-027-C.

Petitioner: Highland Mining Company, LLC, Three Gateway Center, Suite 1340, 401 Liberty Avenue, Pittsburgh, Pennsylvania 15222-1000.

Mine: Highland No. 9 Mine, MSHA I.D. No. 15-02709, 530 French Road, Waverly, Kentucky 42462, located in Union County, Kentucky.

Regulation Affected: 30 CFR 75.500(d) (Permissible electric equipment).

Modification Request: The petitioner requests a modification of the existing standard to permit an alternative method of compliance to permit the use of battery-powered non-permissible surveying equipment in or inby the last open crosscut, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such nonpermissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in or inby the last open crosscut.

(e) Non-permissible surveying equipment will not be used if methane is detected in concentrations at or above one percent for the area being surveyed. When methane is detected at such levels while the non-permissible surveying equipment is being used, the equipment will be deenergized immediately and the non-permissible electronic equipment withdrawn outby the last open crosscut.

(f) All hand-held methane detectors will be MSHA-approved and maintained in permissible and proper operating condition as defined in 30 CFR 75.320.

(g) Batteries contained in the surveying equipment must be changed out or charged in fresh air outby the last open crosscut.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-028-C.

Petitioner: Highland Mining Company, LLC, Three Gateway Center, Suite 1340, 401 Liberty Avenue, Pittsburgh, Pennsylvania 15222-1000.

Mine: Highland No. 9 Mine, MSHA I.D. No. 15-02709, 530 French Road, Waverly, Kentucky 42462, located in Union County, Kentucky.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, including, but not limited to, portable battery operated mine transits, total station surveying equipment, distance meters, and data loggers. The petitioner states that:

(1) In order to comply with requirements of 30 CFR 75.372 and 75.1200, use of the most practical and accurate surveying equipment is necessary.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used in or inby the last open crosscut will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment in return airways.

(e) Non-permissible surveying equipment will not be used if methane is detected in concentrations at or above one percent for the area being surveyed. When methane is detected at such levels while the non-permissible surveying equipment is being used, the equipment will be deenergized immediately and the non-permissible electronic equipment withdrawn out of the return airways.

(f) All hand-held methane detectors will be MSHA-approved and maintained in permissible and proper operating condition as defined in 30 CFR 75.320.

(g) Batteries contained in the surveying equipment must be changed out or charged in fresh air out of the return.

(h) Qualified personnel engaged in the use of surveying equipment will be properly trained to recognize the hazards associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Docket Number: M-2012-029-C.

Petitioner: Highland Mining Company, LLC, Three Gateway Center, Suite 1340, 401 Liberty Avenue, Pittsburgh, Pennsylvania 15222-1000.

Mine: Highland No. 9 Mine, MSHA I.D. No. 15-02709, 530 French Road, Waverly, Kentucky 42462, located in Union County, Kentucky.

Regulation Affected: 30 CFR 75.1002(a) (Installation of electric equipment and conductors; permissibility).

Modification Request: The petitioner requests a modification of the existing standard to permit an alternative method of compliance to permit the use of battery-powered non-permissible surveying equipment within 150 feet of pillar workings, including, but not limited to, portable battery operated mine transits, total station surveying equipment, distance meters, and data loggers. The petitioner states that:

(1) In order to comply with requirements of 30 CFR 75.372, 75.1002(a), and 75.1200, use of the most practical and accurate surveying equipment is necessary. In order to ensure the safety of the miners in active mines and to protect miners in future mines which may mine in close proximity to these same active mines it is necessary to determine the exact location and extents of the mine workings.

(2) Application of the existing standard would result in a diminution of safety to the miners. Underground mining by its nature, size, and complexity of mine plans requires that accurate and precise measurements be completed in a prompt and efficient manner. The petitioner proposes the following as an alternative to the existing standard:

(a) Non-permissible electronic surveying equipment will be used when equivalent permissible electronic surveying equipment is not available. Such non-permissible surveying equipment includes portable battery operated total station surveying equipment, mine transits, distance meters, and data loggers.

(b) All non-permissible electronic surveying equipment to be used within 150 feet of pillar workings will be examined by surveying personnel prior to use to ensure the equipment is being maintained in a safe operating condition. These examinations will include the following steps:

(i) Checking the instrument for any physical damage and the integrity of the case.

(ii) Removing the battery and inspect for corrosion.

(iii) Inspecting the contact points to ensure a secure connection to the battery.

(iv) Reinserting the battery and power up and shut down to ensure proper connections.

(v) Checking the battery compartment cover to ensure that it is securely fastened.

(c) The results of such examinations will be recorded and retained for one year and made available to MSHA upon request.

(d) A qualified person as defined in 30 CFR 75.151 will continuously monitor for methane immediately before and during the use of non-permissible surveying equipment within 150 feet of pillar workings.

(e) Non-permissible surveying equipment will not be used if methane is detected in concentrations at or above one percent for the area being surveyed. When methane is detected at such levels while the non-permissible surveying equipment is being used, the equipment will be deenergized immediately and the non-permissible electronic equipment withdrawn further than 150 feet from pillar workings.

(f) All hand-held methane detectors will be MSHA-approved and maintained in permissible and proper operating condition as defined in 30 CFR 75.320.

(g) Batteries contained in the surveying equipment must be changed out or charged in fresh air more than 150 feet from pillar workings.

(h) Qualified personnel engaged in the use of surveying equipment will be properly trained to recognize the hazards and limitations associated with the use of non-permissible surveying equipment in areas where methane could be present.

(i) The non-permissible surveying equipment will not be put into service until MSHA has initially inspected the equipment and determined that it is in compliance with all the terms and conditions in this petition.

(j) Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection as that afforded by the existing standard.

Dated: March 5, 2012.
Patricia W. Silvey,
Certifying Officer.

[FR Doc. 2012-5713 Filed 3-8-12; 8:45 am]

BILLING CODE 4510-43-P